DEPARTMENT OF COMMERCE

Foreign-Trade Zones Board

[B-22-2022]

Foreign-Trade Zone 164—Muskogee, Oklahoma; Application for Reorganization and Expansion Under Alternative Site Framework

An application has been submitted to the Foreign-Trade Zones (FTZ) Board by the Muskogee City-County Port Authority, grantee of FTZ 164, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 31, 2022.

FTZ 164 was approved by the FTZ Board on November 17, 1989 (Board Order 450, 54 FR 49321, November 30, 1989) and expanded on February 12, 2007 (Board Order 1500, 72 FR 8966-8967, February 28, 2007).

The current zone includes the following sites: Site 1 (48.19 acres total)—Port of Muskogee located at Port and Industrial Park Service Road and Port Access Road (14.6 acres), at 2631 Port Place Road (5.92 acres) and at North 43rd Street East and Don Cayo Road (27.67 acres) in Muskogee; Site 2 (47.47 acres)—Port of Muskogee/John T. Griffin Industrial Park (Lot 2) located on Dal-Tile Road near State Highway 165 and U.S. Highway 64 in Muskogee; and, Site 3 (22.83 acres total)—Komar Distribution Center facilities located at 400 West Chickasaw (7.63 acres) and at 10 V. Hubert Smith Drive (15.2 acres) in McAlester.

The grantee's proposed service area under the ASF would be Muskogee County, Oklahoma, as described in the application. If approved, the grantee would be able to serve sites throughout the service area based on companies' needs for FTZ designation. The application indicates that the proposed service area is adjacent to the Tulsa Customs and Border Protection port of entry.

The applicant is requesting authority to reorganize its existing zone to include all of the existing sites as “magnet” sites. The ASF allows for the possible exemption of one magnet site from the “sunset” time limits that generally apply to sites under the ASF, and the applicant proposes that Site 1 be so exempted. The applicant is also requesting approval of the following subzone: Proposed Subzone 164A—Vallourec Star, LP, 3800 Port Place, Muskogee, Muskogee County (102 acres).

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is August 5, 2022. Rebuttal comments in response to material submitted during the foregoing period may be submitted during the subsequent 15-day period to August 22, 2022.

A copy of the application will be available for public inspection in the “Online FTZ Information Section” section of the FTZ Board's website, which is accessible via www.trade.gov/ftz. For further information, contact Camille Evans at Camille.Evans@trade.gov.

Dated: May 31, 2022.
Andrew McGilvray,
Executive Secretary.

[FR Doc. 2022-12078 Filed 6-3-22; 8:45 am]

BILLING CODE 3510-DS-P